DEPARTMENT OF HEALTH AND HUMAN SERVICES

Centers for Disease Control and Prevention

[30DAY-12-01]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer; Human Resources and Housing Branch, New Executive Office Building, Room 10235; Washington, DC 20503. Written comments should be received within 30 days of this notice.

Proposed Project: Questionnaire Design Research Laboratory (QDRL) 2001-2003, (OMB No. 0920-0222)—Revision—National Center for Health Statistics (NCHS), Centers for Disease Control and Prevention (CDC). The QDRL conducts pretesting activities related to the development of NCHS and other Federal survey questionnaires, such as the National Health Interview Survey (NHIS). These activities mainly involve use of the cognitive interview, in which volunteer respondents (“laboratory subjects”) are administered draft survey questions, and are asked to react to those questions. The cognitive interviewer notes sources of error in these questions, based on problems that subjects have in comprehending the questions and in attempting to recall the information requested. After several cycles of testing of small numbers of respondents (generally 10-12), and development of the questions between testing “rounds,” the questionnaires are improved to the point to which they are ready for field testing and household administration. QDRL staff are also engaged in the conduct of general questionnaire design research, in which survey questions are administered to laboratory subjects using different phrases, or under different administration modes (e.g., face-to-face versus telephone), in order to determine the optimal means for presenting the questions. These investigative pretesting activities are now routinely used by NCHS and by other survey organizations for testing and development purposes, and result in high data quality at a minimal cost, especially in terms of respondent burden. We also support field testing on occasion to assure adequate pretesting of health survey instruments. Total burden hours for this data collection are 550 hours.

Respondents | Number of respondents | Number of responses per respondent | Avg. burden response (in hours) | Response burden (hours)
2001 test volunteers | 500 | 1 | 1.1 | 550
2002 test volunteers | 500 | 1 | 1.1 | 550
2003 test volunteers | 500 | 1 | 1.1 | 550

Dated: December 15, 2000.
Nancy Cheal,
Acting Director for Policy, Planning, and Evaluation Centers for Disease Control and Prevention (CDC).

[FR Doc. 00-32546 Filed 12-20-00; 8:45 am]

BILLING CODE 4163-18-P